DEPARTMENT OF LABOR

Employment and Training Administration

[TA-W-37,600 and NAFTA 3998]

Trinity Industries, Incorporated, Mt. Orab, OH; Notice of Negative Determination on Reconsideration

On October 4, 2000, the Department issued an Affirmative Determination Regarding Application for Reconsideration for the workers and former workers of the subject firm. The notice was published in the Federal Register on October 18, 2000 (65 FR 62369).

The Department initially denied TAA to workers of Trinity Industries, Incorporated because the “contributed importantly” group eligibility requirement of section 222(3) of the Trade Act of 1974, as amended, was not met. The Department denied NAFTA-TAA because the “contributed importantly” group eligibility requirement of section 250 was not met and because there was no shift in production to either Mexico or Canada. The workers at the subject firm were engaged in employment related to the production of aluminum rail cars.

The petitioner asserted that imports of rail cars contributed importantly to the worker separations and provided additional information which should have been considered by the Department in its survey of customers.

On reconsideration, the Department surveyed additional customers of the subject firm. The survey revealed that no customers were purchasing imported aluminum rail cars.

Conclusion

After reconsideration, I affirm the original notice of negative determination of eligibility to apply for worker adjustment assistance and NAFTA-TAA for workers and former workers of Trinity Industries, Incorporated, Mt. Orab, Ohio.

Signed at Washington, D.C., this 1st day of November, 2000.
Linda G. Poole,
Certifying Officer, Division of Trade Adjustment Assistance.

[FR Doc. 00-29158 Filed 11-14-00; 8:45 am]

BILLING CODE 4510-30-M